DEPARTMENT OF JUSTICE

Notice of Settlement Agreement

In accordance with Departmental Policy, 28 CFR 50.7, notice is hereby given of a proposed settlement agreement in United States v. North Carolina DOT Ferry Division, et al., No. 5:08-CV-48-BO (E.D.N.C.), to obtain injunctive relief and impose civil penalties against defendants for alleged violations of Clean Water Act sections 301(a) and 404, 33 U.S.C. 1311, 1344, by discharging fill material without a permit into the Currituck Sound, along a traditional boating lane near Corolla, North Carolina.

The proposed Settlement Agreement resolves these allegations by requiring defendants North Carolina Department of Transportation, Jerry Gaskill and Billy R. Moore to pay civil penalties. In addition, the North Carolina Department of Transportation is required to provide periodic training regarding the Clean Water Act and related environmental requirements. The Department of Justice will accept written comments relating to this proposed Settlement Agreement for thirty (30) days from the date of publication of this Notice. Please address comments to Neal I. Fowler, Assistant United States Attorney, United States Attorney's Office, Civil Division, Terry Sanford Federal Building, 310 New Bern Avenue, Suite 800, Raleigh, North Carolina 27601-1461, and refer to United States v. North Carolina DOT Ferry Division, et al., No. 5:08-CV-48-BO. The proposed Settlement may be viewed at http://www.usdoj.gov/enrd/Consent_Decrees.html.

Russell M. Young,
Assistant Chief, Environmental Defense Section, Environment & Natural Resources Division.

[FR Doc. E9-8767 Filed 4-16-09; 8:45 am]

BILLING CODE